DEPARTMENT OF DEFENSE

Defense Acquisition Regulations System

48 CFR Chapter 2

[Docket DARS-2022-0031]

RIN 0750-AL72

Defense Federal Acquisition Regulation Supplement: Reorganization of Defense Acquisition Statutes (DFARS Case 2022-D018)

AGENCY: Defense Acquisition Regulations System, Department of Defense (DoD).

ACTION: Final rule.

SUMMARY: DoD is issuing a final rule amending the Defense Federal Acquisition Regulation Supplement (DFARS) to implement sections of the National Defense Authorization Act for Fiscal Year 2021 and sections of the National Defense Authorization Act for Fiscal Year 2022 related to the transfer and reorganization of the defense acquisition statutes.

DATES: Effective December 30, 2022.

FOR FURTHER INFORMATION CONTACT: Ms. Kimberly Ziegler, telephone 703-901-3176.

SUPPLEMENTARY INFORMATION:

I. Background

DoD is amending the DFARS to implement Title XVIII of the National Defense Authorization Act (NDAA) for Fiscal Year (FY) 2021 (Pub. L. 116-283), Transfer and Reorganization of Defense Acquisition Statutes, which revised numerous statutory references used throughout the DFARS. The rule also implements Title XVII of the NDAA for FY 2022 (Pub. L. 117-81), Technical Amendments Related to the Transfer and Reorganization of Defense Acquisition Statutes, which provided technical, conforming, and clerical amendments related to Title XVIII of the NDAA for FY 2021. The rule also provides the new location of notes that were moved by the Office of the Law Revision Counsel of the United States House of Representatives as a result of the reorganization.

The rule makes several minor corrections to the DFARS apart from the changes related to the reorganization. These corrections include updates to organizational office names, statutory titles, the addition of codification citations for authorization acts, and the removal of citations for statutes that have been repealed.

II. Publication of This Final Rule for Public Comment Is Not Required by Statute

The statute that applies to the publication of the Federal Acquisition Regulation (FAR) is 41 U.S.C. 1707. Subsection (a)(1) of the statute requires that a procurement policy, regulation, procedure, or form (including an amendment or modification thereof) must be published for public comment if it relates to the expenditure of appropriated funds and has either a significant effect beyond the internal operating procedures of the agency issuing the policy, regulation, procedure, or form, or has a significant cost or administrative impact on contractors or offerors. This final rule is not required to be published for public comment, because DoD is not issuing new regulation; rather, this rule only updates statutory references in the existing regulations and has no significant cost or administrative impact on contractors or offerors.

III. Applicability to Contracts at or Below the Simplified Acquisition Threshold and for Commercial Services and Commercial Products, Including Commercially Available Off-the-Shelf Items

This rule does not create any new solicitation provisions or contract clauses. It does not change the applicability of any existing provisions or clauses included in solicitations or contracts valued at or below the simplified acquisition threshold or for commercial services or commercial products, including commercially available off-the-shelf items.

IV. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993.

V. Congressional Review Act

As required by the Congressional Review Act (5 U.S.C. 801-808) before an interim or final rule takes effect, DoD will submit a copy of the final rule with the form, Submission of Federal Rules under the Congressional Review Act, to the U.S. Senate, the U.S. House of Representatives, and the Comptroller General of the United States. A major rule under the Congressional Review Act cannot take effect until 60 days after it is published in the Federal Register. The Office of Information and Regulatory Affairs has determined that this rule is not a major rule as defined by 5 U.S.C. 804.

VI. Regulatory Flexibility Act

The Regulatory Flexibility Act does not apply to this rule, because this final rule does not constitute a significant DFARS revision within the meaning of FAR 1.501-1, and 41 U.S.C. 1707 does not require publication for public comment.

VII. Paperwork Reduction Act

The Paperwork Reduction Act (44 U.S.C. chapter 35) does apply; however, the changes to these DFARS clauses do not impose additional information collection requirements to the paperwork burden previously approved under the following OMB Control Numbers:

• 0704-0187, Information Collection in Support of the DoD Acquisition Process (Various Miscellaneous Requirements).

• 0704-0332, Defense Federal Acquisition Regulation Supplement (DFARS) Appendix I.

• 0704-0369, DFARS Subpart 227.71, Rights in Technical Data, and Subpart 227.72, Rights in Computer Software and Computer Software Documentation, and related provisions and clauses.

• 0704-0397, Defense Federal Acquisition Regulation Supplement (DFARS) Part 243, Contract Modifications and Related Clause at DFARS 252.243-7002.

• 0704-0533, Defense Federal Acquisition Regulation Supplement (DFARS) Part 249, Termination of Contracts, and a Related Clause at DFARS 252.249-7002, Notification of Anticipated Contract Termination or Reduction.

• 0704-0574, Defense Federal Acquisition Regulation Supplement (DFARS) Part 215: Only One Offer and Related Clauses at 252.215.

List of Subjects in 48 CFR Parts 201, 202, 203, 204, 205, 206, 207, 208, 209, 212, 213, 215, 216, 217, 219, 222, 223, 225, 226, 227, 231, 232, 233, 234, 235, 236, 237, 239, 242, 243, 244, 250, 252, and Appendix I to Chapter 2

Government procurement.

Jennifer D. Johnson,
Editor/Publisher, Defense Acquisition Regulations System.

Therefore, 48 CFR parts 201, 202, 203, 204, 205, 206, 207, 208, 209, 212, 213, 215, 216, 217, 219, 222, 223, 225, 226, 227, 231, 232, 233, 234, 235, 236, 237, 239, 242, 243, 244, 250, 252, and Appendix I to Chapter 2 are amended as follows:

1. The authority citation for 48 CFR parts 201, 202, 203, 204, 205, 206, 207, 208, 209, 212, 213, 215, 216, 217, 219, 222, 223, 225, 226, 227, 231, 232, 233, 234, 235, 236, 237, 239, 242, 243, 244, 250, 252, and Appendix I to Chapter 2 continues to read as follows:

Authority: 41 U.S.C. 1303 and 48 CFR chapter 1.

PART 201—FEDERAL ACQUISITION REGULATIONS SYSTEM

201.101 [Amended]

2. Amend section 201.101 in paragraph (1) by removing “10 U.S.C. 2545” and adding “10 U.S.C. 3001(a)” in its place.

PART 202—DEFINITIONS OF WORDS AND TERMS

202.101 [Amended]

3. Amend section 202.101—

a. In the definition of “Major defense acquisition program” by removing “10.U.S.C. 2430(a)” and adding “10 U.S.C. 4201” in its place;

b. In the definition of “Milestone decision authority” by removing “10 U.S.C. 2431a” and adding “10 U.S.C. 4211” in its place; and

c. In the definition of “Nontraditional defense contractor” by removing “10 U.S.C. 2302(9)” and adding “10 U.S.C. 3014” in its place.

PART 203—IMPROPER BUSINESS PRACTICES AND PERSONAL CONFLICTS OF INTEREST

4. Revise section 203.570-1 to read as follows:

203.570-1 Scope.

This subpart implements 10 U.S.C. 4656. For information on 10 U.S.C. 4656, see PGI 203.570-1.

203.900 [Amended]

5. Amend section 203.900 in the introductory text and paragraph (a)(i) and paragraph (a)(ii) introductory text by removing “10 U.S.C. 2409” and adding “10 U.S.C. 4701” in its place.

203.903 [Amended]

6. Amend section 203.903 in paragraph (1) by removing “10 U.S.C. 2409” and adding “10 U.S.C. 4701” in its place.

203.906 [Amended]

7. Amend section 203.906—

a. In paragraph (2)(ii) by removing “10 U.S.C. 2409” and “two” and adding “10 U.S.C. 4701” and “2” in their places, respectively;

b. In paragraph (3) by removing “10 U.S.C. 2409(c)” and adding “10 U.S.C. 4701(c)” in its place;

c. In paragraph (4) by removing “10 U.S.C. 2409” and adding “10 U.S.C. 4701” in its place; and

d. In paragraph (5) by removing “10 U.S.C. 2409” and adding “10 U.S.C. 4701” in its place.

PART 204—ADMINISTRATIVE AND INFORMATION MATTERS

204.1700 [Amended]

8. Amend section 204.1700 by removing “10 U.S.C. 2330a” and adding “10 U.S.C. 4505” in its place.

PART 205—PUBLICIZING CONTRACT ACTIONS

205.301 [Amended]

9. Amend section 205.301 in paragraph (a)(S-70)(i) introductory text by removing “10 U.S.C. 2533a(k)” and adding “10 U.S.C. 4862(k)” in its place.

205.470 [Amended]

10. Amend section 205.470 by removing “10 U.S.C. 2416” and adding “10 U.S.C. 4957” in its place.

PART 206—COMPETITION REQUIREMENTS

206.001-70 [Amended]

11. Amend section 206.001-70—

a. In paragraph (a) introductory text by removing “10 U.S.C. 2371b” and adding “10 U.S.C. 4022” in its place; and

b. In paragraph (a)(2) by removing “10 U.S.C. 2371b” and “section (a)(2),” and adding “10 U.S.C. 4022” and “section (a)(2)” in their places, respectively.

206.102 [Amended]

12. Amend section 206.102 in paragraph (d)(2) by removing “10 U.S.C. 2302(2)(B)” and adding “10 U.S.C. 3012(2)” in its place.

206.302-4 [Amended]

13. Amend section 206.302-4 in paragraph (c) by removing “10 U.S.C. 2304(f)(2)(E)” and adding “10 U.S.C. 3204(e)(4)(E)” in its place.

206.302-5 [Amended]

14. Amend section 206.302-5—

a. In paragraph (c)(i) introductory text by removing “10 U.S.C. 2361” and adding “10 U.S.C. 4141” in its place;

b. In paragraph (c)(i)(A)(1) by removing “10 U.S.C. 2361,” and adding “10 U.S.C. 4141;” in its place;

c. In paragraph (c)(i)(A)(2) by removing “involved,” and adding “involved;” in its place; and

d. In paragraph (c)(i)(A)(3) by removing “10 U.S.C. 2361(a)” and adding “10 U.S.C. 4141(a)” in its place.

PART 207—ACQUISITION PLANNING

207.103 [Amended]

15. Amend section 207.103 in paragraph (h) introductory text by removing “10 U.S.C. 2304(c)(3)” and “Section” and adding “10 U.S.C. 3204(a)(3)” and “section” in their places, respectively.

207.106 [Amended]

16. Amend section 207.106—

a. In paragraph (b)(1)(A) introductory text by removing “10 U.S.C. 2305(d)(4)(A)” and adding “10 U.S.C. 3208(d)(1)” in its place;

b. In paragraph (b)(1)(B) by removing “10 U.S.C. 2305(d)(4)(B)” and adding and “10 U.S.C. 3208(d)(2)” in its place;

c. In paragraph (S-70)(1) introductory text by removing “section 802(a) of the National Defense Authorization Act for Fiscal Year 2007 (Pub. L. 109-364)” and adding “10 U.S.C. 3774(a)” in its place;

d. In paragraph (S-70)(2)(ii) by removing “10 U.S.C. 2443” and adding “10 U.S.C. 4328” in its place;

e. In paragraph (S-72)(1) introductory text by removing “10 U.S.C. 2430” and adding “10 U.S.C. 4201” in its place; and

f. In paragraph (S-72)(5) by removing “10 U.S.C. 2443” and “10 U.S.C. 2302 and 2302d” and adding “10 U.S.C. 4328” and “10 U.S.C. 3041(a) and 4202” in their places, respectively.

207.470 [Amended]

17. Amend section 207.470—

a. In paragraph (a) introductory text by removing “10 U.S.C. 2401” and adding “10 U.S.C. 3671-3677” in its place;

b. In paragraph (a)(1) by removing “10 U.S.C. 2401(d)(1)” and adding “10 U.S.C. 3674(a)(1)” in its place;

c. In paragraph (a)(2) by removing “10 U.S.C. 2401(d)(2)” and adding “10 U.S.C. 3674(b)” in its place;

d. In paragraph (b) introductory text by removing “10 U.S.C. 2401a” and adding “10 U.S.C. 3678” in its place; and

e. In paragraph (c) by removing “10 US.C. 2401a” and adding “10 U.S.C. 3681” in its place.

207.500 [Amended]

18. Amend section 207.500 by removing “10 U.S.C. 2383” and adding “10 U.S.C. 4508” in its place.

207.503 [Amended]

19. Amend section 207.503 in paragraph (S-70)(1) introductory text by removing “10 U.S.C. 2383” and adding “10 U.S.C. 4508” in its place.

207.7002 [Amended]

20. Amend section 207.7002 in the introductory text by removing “10 U.S.C. 2308” and adding “10 U.S.C. 3069” in its place.

PART 208—REQUIRED SOURCES OF SUPPLIES AND SERVICES

21. Amend section 208.602-70 by revising paragraph (a) to read as follows:

208.602-70 Acquisition of items for which FPI has a significant market share.

(a) Scope. This section implements 10 U.S.C. 3905.

* * * * *

208.7002 [Amended]

22. Amend section 208.7002 in paragraph (a)(4) introductory text by removing “10 U.S.C. 2311” and adding “10 U.S.C. 3065” in its place.

PART 209—CONTRACTOR QUALIFICATIONS

23. Amend section 209.104-1—

a. In paragraph (g)(ii)(A) by removing “10 U.S.C. 2536(a)” and adding “10 U.S.C. 4874(a)” in its place;

b. By revising paragraph (g)(ii)(C) introductory text; and

c. In paragraph (g)(ii)(D) introductory text by removing “10 U.S.C. 2536(b)(1)(B)” and “subsection” and adding “10 U.S.C. 4874(b)(1)(B)” and “section” in their places, respectively.

The revision reads as follows:

209.104-1 General standards.

(g) * * *

(ii) * * *

(C) In accordance with 10 U.S.C. 4874(b)(1)(A), the Secretary of Defense may waive the prohibition in paragraph (g)(ii)(A) of this section upon determining that the waiver is essential to the national security interests of the United States. The Secretary has delegated authority to grant this waiver to the Under Secretary of Defense for Intelligence. Waiver requests, prepared by the requiring activity in coordination with the contracting officer, shall be processed through the Principal Director, Defense Pricing and Contracting, Office of the Under Secretary of Defense (Acquisition and Sustainment), and shall include a proposed national interest determination. The proposed national interest determination, prepared by the requiring activity in coordination with the contracting officer, shall include—

* * * * *

209.405 [Amended]

24. Amend section 209.405 in paragraph (a) introductory text by removing “10 U.S.C. 2393(b)” and adding “10 U.S.C. 4654(b)” in its place.

209.406-2 [Amended]

25. Amend section 209.406-2 in paragraph (1) introductory text by removing “10 U.S.C. 2410f” and adding “10 U.S.C. 4658” in its place.

209.570-2 [Amended]

26. Amend section 209.570-2—

a. In paragraph (a) by removing “subsection, 10 U.S.C. 2410p” and adding “section, 10 U.S.C. 4292” in its place; and

b. In paragraph (c) introductory text by removing “Section” and “(Pub. L. 110-181),” and adding “section” and “(Pub. L. 110-181; 10 U.S.C. 4292 note),” in their places, respectively.

PART 212—ACQUISITION OF COMMERCIAL ITEMS

212.102 [Amended]

27. Amend section 212.102—

a. In paragraph (a)(i)(B)(2) by removing “10 U.S.C. 2380a” and adding “10 U.S.C. 3457” in its place;

b. In paragraph (a)(ii)(A) by removing “10 U.S.C. 2380(c)” and adding “10 U.S.C. 3456(c)” in its place;

c. In paragraph (a)(ii)(B)(2) introductory text by removing “10 U.S.C. 2306a(b)(4)(A)” and “10 U.S.C. 2306a(b)(4) and 10 U.S.C. 2380(c)” and adding “10 U.S.C. 3703(d)(1)” and “10 U.S.C. 3703(d) and 10 U.S.C. 3456(c)” in their places, respectively; and

d. In paragraph (a)(iv) introductory text by removing “10 U.S.C. 2380a” and adding “10 U.S.C. 3457” in its place.

212.209 [Amended]

28. Amend section 212.209—

a. In paragraph (a) introductory text by removing “10 U.S.C. 2377(d)” and adding “10 U.S.C. 3453(d)” in its place; and

b. In paragraph (b) by removing “10 U.S.C. 2306a(b)” and adding “10 U.S.C. 3703(e)” in its place.

212.272 [Amended]

29. Amend section 212.272 in paragraph (b)(1) by removing “section 10 U.S.C. 2377(c)(2)” and adding “10 U.S.C. 3453(c)(2)” in its place.

212.301 [Amended]

30. Amend section 212.301—

a. In paragraph (f)(i)(A) by removing “10 U.S.C. 2207” and adding “10 U.S.C. 4651” in its place;

b. In paragraph (f)(i)(C) by removing “10 U.S.C. 2409” and adding “10 U.S.C. 4701” in its place;

c. In paragraph (f)(ii)(N) introductory text by removing “10 U.S.C. 2330a” and adding “10 U.S.C. 4505” in its place;

d. In paragraph (f)(iii) by removing “10 U.S.C. 2416” and adding “10 U.S.C. 4957” in its place;

e. In paragraph (f)(viii)(C) by removing “10 U.S.C. 2419” and adding “10 U.S.C. 4959” in its place;

f. In paragraphs (f)(x)(E), (F), and (G) by removing “10 U.S.C. 2533b” and adding “10 U.S.C. 4863” in their places;

g. In paragraphs (f)(x)(H) and (I) by removing “10 U.S.C. 2533a” and adding “10 U.S.C. 4862” in their places;

h. In paragraph (f)(x)(U) by removing “10 U.S.C. 2410i” and adding “10 U.S.C. 4659” in its place;

i. In paragraphs (f)(x)(X) and (Y) by removing “10 U.S.C. 2534(a)(3)” and adding “10 U.S.C. 4864(a)(3)” in their places;

j. In paragraph (f)(x)(DD) by removing “10 U.S.C. 2327(b)” and adding “10 U.S.C. 4871(b)” in its place;

k. In paragraph (f)(x)(FF) by removing “10 U.S.C. 2533c” and adding “10 U.S.C. 4872” in its place;

l. In paragraph (f)(xii)(B) by removing “10 U.S.C. 2320” and adding “10 U.S.C. 3772(a)” in its place;

m. In paragraph (f)(xiv)(A) by removing “10 U.S.C. 2227” and adding “10 U.S.C. 4601” in its place;

n. In paragraph (f)(xiv)(G) by removing “10 U.S.C. 2307(a)” and adding “10 U.S.C. 3801” in its place;

o. In paragraph (f)(xvi)(C) and (D) by removing “10 U.S.C. 2339a” and adding “10 U.S.C. 3252” in their places; and

p. In paragraph (f)(xvii) by removing “10 U.S.C. 2410” and adding “10 U.S.C. 3862” in its place.

31. Amend section 212.503—

a. By revising paragraphs (a)(i), (ii), and (iii);

b. By removing paragraphs (a)(iv), (v), and (vi);

c. By redesignating paragraphs (a)(vii) through (xi) as paragraphs (a)(iv) through (viii);

d. By revising newly redesignated paragraphs (a)(iv) and (v); and

e. By revising paragraphs (c)(i) and (ii).

The revisions read as follows:

212.503 Applicability of certain laws to executive agency contracts for the acquisition of commercial items.

(a) * * *

(i) 10 U.S.C. 3321(b), Prohibition on Contingent Fees.

(ii) 10 U.S.C. 3741-3750, Allowable Costs Under Defense Contracts.

(iii) 10 U.S.C. 4753(b), Requirement to Identify Suppliers.

(iv) 10 U.S.C. 4656(a), Prohibition on Persons Convicted of Defense Related Felonies.

(v) 10 U.S.C. 3845, Contractor Inventory Accounting System Standards (see 252.242-7004).

* * * * *

(c) * * *

(i) 10 U.S.C. 4655, Prohibition on Limiting Subcontractor Direct Sales to the United States (see FAR 3.503 and 52.203-6).

(ii) 10 U.S.C. 3703, Truthful Cost or Pricing Data (see FAR 15.403-1(b)(3)).

32. Amend section 212.504—

a. By revising paragraphs (a)(i) through (v) and (vii);

b. By removing paragraphs (a)(viii) through (x);

c. By redesignating paragraphs (a)(xi) through (xviii) as paragraphs (a)(viii) through (xv);

d. By revising newly redesignated paragraphs (a)(viii) through (xi);

e. In paragraph (b)(i) by removing “10 U.S.C. 2393” and adding “10 U.S.C. 4654” in its place; and

f. In paragraph (b)(ii) by removing “10 U.S.C. 2402” and adding “10 U.S.C. 4655” in its place.

The revisions read as follows:

212.504 Applicability of certain laws to subcontracts for the acquisition of commercial items.

(a) * * *

(i) 10 U.S.C. 3321(b), Prohibition on Contingent Fees.

(ii) 10 U.S.C. 3841(d), Examination of Records of a Contractor.

(iii) 10 U.S.C. 3741-3750, Allowable Costs Under Defense Contracts.

(iv) 10 U.S.C. 4871, Reporting Requirement Regarding Dealings with Terrorist Countries.

(v) 10 U.S.C. 4753(b), Requirement to Identify Suppliers.

* * * * *

(vii) 10 U.S.C. 4654, Prohibition Against Doing Business with Certain Offerors or Contractors.

(viii) 10 U.S.C. 4656(a), Prohibition on Persons Convicted of Defense Related Felonies.

(ix) 10 U.S.C. 3845, Contractor Inventory Accounting System Standards.

(x) 10 U.S.C. 4801 note prec., Notification of Proposed Program Termination.

(xi) 10 U.S.C. 4864, Miscellaneous Limitations on the Procurement of Goods Other Than United States Goods.

* * * * *

212.505 [Amended]

33. Amend section 212.505—

a. In paragraph (a) by removing “10 U.S.C. 2533b” and adding “10 U.S.C. 4863” in its place; and

b. In paragraph (b) by removing “10 U.S.C. 2533c” and adding “10 U.S.C. 4872” in its place.

PART 213—SIMPLIFIED ACQUISITION PROCEDURES

213.270 [Amended]

34. Amend section 213.270 in paragraph (c)(3) by removing “10 U.S.C. 2302(8)” and adding “10 U.S.C. 3015(2)” in its place.

213.301 [Amended]

35. Amend section 213.301 in paragraph (3) introductory text by removing “10 U.S.C. 2302(8)” and adding “10 U.S.C. 3015(2)” in its place.

213.305-3 [Amended]

36. Amend section 213.305-3 in paragraph (d)(iii)(A) by removing “10 U.S.C. 2302(8)” and adding “10 U.S.C. 3015(2)” in its place.

213.306 [Amended]

37. Amend section 213.306 in paragraph (a)(1)(B) by removing “10 U.S.C. 2302(8)” and adding “10 U.S.C. 3015(2)” in its place.

PART 215—CONTRACTING BY NEGOTIATION

215.101-2-70 [Amended]

38. Amend section 215.101-2-70—

a. In paragraphs (a)(1) introductory text and (a)(2) introductory text by removing “10 U.S.C. 2305 note” and adding “10 U.S.C. 3241 note prec.” in their places;

b. In paragraph (b)(1) by removing “2017” and “2018 (see 10 U.S.C. 2302 note)” and adding “2017 (Pub. L. 114-328)” and “2018 (Pub. L. 115-91) in their places, respectively;

c. In paragraph (b)(2) by removing “10 U.S.C. 2442 note” and adding “10 U.S.C. 4232” in its place; and

d. In paragraph (b)(3) by removing “10 U.S.C. 254b” and adding “10 U.S.C. 240f” in its place.

215.304 [Amended]

39. Amend section 215.304—

a. In paragraph (c)(ii) by removing “10 U.S.C. 2436” and “10 U.S.C. 2430” and adding “10 U.S.C. 4293” and “10 U.S.C. 4201” in their places, respectively; and

b. In paragraphs (c)(vi)(B) and (C) by removing “10 U.S.C. 2443” and adding “10 U.S.C. 4328” in their places.

40. Revise the heading of section 215.403-1 to read as follows:

215.403-1 Prohibition on obtaining certified cost or pricing data (10 U.S.C. chapter 271 and 41 U.S.C. chapter 35).

* * * * *

215.404-1 [Amended]

41. Amend section 215.404-1 in paragraph (b)(ii) by removing “10 U.S.C. 2306a(b)(5)” and adding “10 U.S.C. 3703(e)” in its place.

215.503 [Amended]

42. Amend section 215.503 by removing “10 U.S.C. 2339a” and adding “10 U.S.C. 3252” in its place.

215.506 [Amended]

43. Amend section 215.506 in paragraph (e) by removing “10 U.S.C. 2339a” and adding “10 U.S.C. 3252” in its place.

PART 216—TYPES OF CONTRACTS

216.301-3 [Amended]

44. Amend section 216.301-3 by removing “10 U.S.C. 2306(c)” and adding “10 U.S.C. 3323” in its place.

216.402-2 [Amended]

45. Amend section 216.402-2 in paragraph (2)(ii) by removing “10 U.S.C. 2443” and adding “10 U.S.C. 4328” in its place.

216.501-2-70 [Amended]

46. Amend section 216.501-2-70 in paragraph (b) by removing “10 U.S.C. 2304a” and adding “10 U.S.C. 3403” in its place.

216.504 [Amended]

47. Amend section 216.504—

a. In paragraph (c)(1)(ii)(D)(1)(i) by removing “section 816 of the National Defense Authorization Act for Fiscal Year 2019 (Pub. L. 115-232)” and adding “10 U.S.C. 3403(d)(3)” in its place; and

b. In paragraph (c)(1)(ii)(D)(3)(i) by removing “section 816 of the National Defense Authorization Act for Fiscal Year 2020 (Pub. L. 116-92)” and adding “10 U.S.C. 3403(d)(3)” in its place.

216.603-2 [Amended]

48. Amend section 216.603-2 in paragraph (c)(3) by removing “10 U.S.C. 2326” and adding “10 U.S.C. 3372” in its place.

PART 217—SPECIAL CONTRACTING METHODS

49. Amend section 217.170—

a. In paragraph (a) by removing “10 U.S.C. 2306b(l)(7)” and adding “10 U.S.C. 3501(l)(7)” in its place;

b. In paragraph (d)(1)(i) by removing “10 U.S.C. 2306b(l)(1)(B)(i)(II)” and “10 U.S.C. 2306c(d)(1)” and adding “10 U.S.C. 3501(l)(1)” and “10 U.S.C. 3531(d)(1)” in their places, respectively;

c. In paragraph (d)(1)(ii) by removing “10 U.S.C. 2306b(l)(1)(B)(i)(I)” and adding “10 U.S.C. 3501(l)(1)” in its place;

d. In paragraph (d)(1)(iii) by removing “10 U.S.C. 2306b(l)(1)(B)(ii)” and adding “10 U.S.C. 3501(l)(1)” in its place;

e. In paragraph (d)(1)(iv) by removing “10 U.S.C. 2306c(d)(4)” and “10 U.S.C. 2306b(g)(1)” and adding “10 U.S.C. 3531(d)(4)” and “10 U.S.C. 3501(g)(1)” in their places, respectively;

f By revising paragraph (d)(4); and

g. In paragraph (d)(5)(i)(C) by removing “10 U.S.C. 2306b(g) and 10 U.S.C. 2306c(d)” and adding “10 U.S.C. 3501(g) and 10 U.S.C. 3531(d)” in its place.

The revision reads as follows:

217.170 General.

* * * * *

(d) * * *

(4) Agencies must establish reporting procedures to meet the congressional notification requirements of paragraph (d)(1) of this section. The head of the agency must submit a copy of each notice to the Principal Director, Defense Pricing and Contracting (DPC), Office of the Under Secretary of Defense (Acquisition and Sustainment) (OUSD(A&S)), and to the Deputy Under Secretary of Defense (Comptroller) (Program/Budget) (OUSD(C)(P/B)).

* * * * *

217.171 [Amended]

50. Amend section 217.171—

a. In the paragraph (a) introductory text by removing “10 U.S.C. 2306c(a)” and adding “10 U.S.C. 3531(a)” in its place;

b. In paragraph (a)(5)(iii) by removing “10 U.S.C. 2306c(b)” and adding “10 U.S.C. 3531(b)” in its place;

c. In paragraph (b)(3) by removing “10 U.S.C. 2306c(c)” and adding “10 U.S.C. 3531(c)” in its place;

d. In paragraph (c)(3) by removing “10 U.S.C. 2306c(a)” and adding “10 U.S.C. 3531(a)” in its place; and

e. In paragraph (d) by removing “10 U.S.C. 2306c(d)(2))()” and adding “10 U.S.C. 3531(d)(2))” in its place.

217.172 [Amended]

51. Amend section 217.172—

a. In paragraph (a) by removing “10 U.S.C. 2306b” and adding “10 U.S.C. 3501” in its place;

b. In paragraph (b) by removing “10 U.S.C. 2306b(a)(6)” and adding “10 U.S.C. 3501(a)(6)” in its place;

c. In paragraph (c) by removing “10 U.S.C. 2306b(i)(1)” and adding “10 U.S.C. 3501(i)(1)” in its place;

d. In paragraph (d) by removing “10 U.S.C. 2306b(l)(3)” and adding “10 U.S.C. 3501(l)(3)” in its place;

e. In paragraph (f)(1) by removing “10 U.S.C. 2306b(l)(5)” and adding “10 U.S.C. 3501(l)(5)” in its place;

f. In paragraph (g)(1) by removing “10 U.S.C. 2306b(h)(1)” and adding “10 U.S.C. 3501(h)(1)” in its place;

g. In paragraph (g)(2) by removing “10 U.S.C. 2306b(h)(2)” and adding “10 U.S.C. 3501(h)(2)” in its place;

h. In paragraph (h)(2) introductory text by removing “(10 U.S.C. 2306b(i)(3)” and adding “(10 U.S.C. 3501(i)(3))” in its place;

i. In paragraph (h)(2)(i) by removing “10 U.S.C. 2306b(i)(3)(A)” and adding “10 U.S.C. 3501(i)(3)(A)” in its place;

j. In paragraph (h)(2)(ii) by removing “10 U.S.C. 2306b(i)(3)(B)” and adding “10 U.S.C. 3501(i)(3)(B)” in its place;

k. In paragraph (h)(2)(iii) by removing “10 U.S.C. 2433(d)” and “10 U.S.C. 2306b(i)(3)(C)” and adding “10 U.S.C. 4371(a)(3)” and “10 U.S.C. 3501(i)(3)(C)” in their places, respectively;

l. In paragraph (h)(2)(iv) by removing “10 U.S.C. 2306b(i)(3)(D)” and adding “10 U.S.C. 3501(i)(3)(D)” in its place;

m. In paragraph (h)(2)(v) by removing “10 U.S.C. 2306b(i)(3)(E)” and adding “10 U.S.C. 3501(i)(3)(E)” in its place;

n. In paragraph (h)(2)(vi) by removing “10 U.S.C. 2306b(i)(3)(F)” and adding “10 U.S.C. 3501(i)(3)(F)” in its place;

o. In paragraph (h)(2)(vii) by removing “10 U.S.C. 2306b(i)(3)(G)” and adding “10 U.S.C. 3501(i)(3)(G)” in its place;

p. In paragraph (h)(2)(viii)(A)(3) by removing “10 U.S.C. 2306b(g)” and adding “10 U.S.C. 3501(g)” in its place;

q. In paragraph (h)(3) by removing “10 U.S.C. 2306b(i)(5)(A)” and adding “10 U.S.C. 3501(i)(5)(A)” in its place;

r. In paragraph (h)(4) by removing “10 U.S.C. 2306b(i)(5)(B)” and adding “10 U.S.C. 3501(i)(5)(B)” in its place;

s. In paragraph (h)(5) by removing “10 U.S.C. 2306b(i)(6)” and adding “10 U.S.C. 3501(i)(6)” in its place;

t. In paragraph (h)(6) by removing “Acquisition, Technology, and Logistics (10 U.S.C. 2306b(i)(7))” and adding “Acquisition and Sustainment (10 U.S.C. 3501(i)(7))” in its place;

u. In paragraph (h)(7) introductory text by removing “10 U.S.C. 2306b(i)(4)” and adding “10 U.S.C. 3501(i)(4)” in its place;

v. In paragraph (h)(7)(iv) by removing “OUSD(AT&L)DPAP” and adding “OUSD(A&S)(DPC)” in its place;

w. In paragraph (i) by removing “10 U.S.C. 2306b(j)” and adding “10 U.S.C. 3501(j)” in its place; and

x. In paragraph (j) by removing “10 U.S.C. 2306b(m)” and adding “10 U.S.C. 3501(m)” in its place.

217.204 [Amended]

52. Amend section 217.204—

a. In paragraph (e)(i) introductory text by removing “10 U.S.C. 2304a” and adding “10 U.S.C. 3403” in its place; and

b. In paragraph (e)(ii)(B) by removing “10 U.S.C. 2304b” and adding and “10 U.S.C. 3405” in its place.

217.208 [Amended]

53. Amend section 217.208 by removing “10 U.S.C. 2305(a)(5)” and adding “10 U.S.C. 3206(e)” in its place.

217.7300 [Amended]

54. Amend section 217.7300 by removing “10 U.S.C. 2384” and adding “10 U.S.C. 4753” in its place.

217.7400 [Amended]

55. Amend section 217.7400 by removing “10 U.S.C. 2326” and adding “10 U.S.C. 3371, et seq.” in its place.

217.7801 [Amended]

56. Amend section 217.7801 by removing “(see 10 U.S.C. 2302 note)”.

PART 219—SMALL BUSINESS PROGRAMS

219.703 [Amended]

57. Amend section 219.703 in paragraph (a) by removing “10 U.S.C. 2410d and section 9077 of Pub. L.” and adding “10 U.S.C. 3903 and section 9077 of Public Law” in its place.

219.7100 [Amended]

58. Amend section 219.7100 by removing “10 U.S.C. 2302 note” and adding “10 U.S.C. 4901 note prec.” in its place.

PART 222—APPLICATION OF LABOR LAWS TO GOVERNMENT ACQUISITIONS

222.1310 [Amended]

59. Amend section 222.1310 in paragraph (a)(1) by removing “10 U.S.C. 2410k” and adding “10 U.S.C. 4704” in its place.

PART 223—ENVIRONMENT, ENERGY AND WATER EFFICIENCY, RENEWABLE ENERGY TECHNOLOGIES, OCCUPATIONAL SAFETY, AND DRUG-FREE WORKPLACE

223.802 [Amended]

60. Amend section 223.802 by removing “Section” and “10 U.S.C. 2301 (repealed) note” and adding “section” and “10 U.S.C. 3201 note prec.” in their places, respectively.

PART 225—FOREIGN ACQUISITION

225.103 [Amended]

61. Amend section 225.103 in paragraphs (a)(ii)(A) introductory text and (a)(ii)(B) introductory text by removing “10 U.S.C. 2533” and adding “10 U.S.C. 4861” in their places.

225.771-0 [Amended]

62. Amend section 225.771-0 by removing “10 U.S.C. 2327(b)” and adding “10 U.S.C. 4871(b)” in its place.

225.771-4 [Amended]

63. Amend section 225.771-4 by removing “10 U.S.C. 2327(c)” and adding “10 U.S.C. 4871(c)” in its place.

225.772-1 [Amended]

64. Amend section 225.772-1 in the definition of “State sponsor of terrorism” by removing “10 U.S.C. 2327” and adding “10 U.S.C. 4871” in its place.

225.871-4 [Amended]

65. Amend section 225.871-4 in paragraph (b)(2) by removing “10 U.S.C. 2304” and adding “10 U.S.C. 3201-3205” in its place.

225.7001 [Amended]

66. Amend section 225.7001 in the definition of “End item” by removing “10 U.S.C. 2533b(m)” and adding “10 U.S.C. 4863(m)” in its place.

225.7002-1 [Amended]

67. Amend section 225.7002-1—

a. In paragraph (a) introductory text:

i. By removing “10 U.S.C. 2533a” and adding “10 U.S.C. 4862” in its place; and

ii. By removing “subsection”; and

b. In paragraph (b) by removing “10 U.S.C. 2533a” and “end-items” and adding “10 U.S.C. 4862” and “end items” in their places, respectively.

225.7002-2 [Amended]

68. Amend section 225.7002-2—

a. In paragraph (a) by removing “(section 817 of the National Defense Authorization Act for Fiscal Year 2017 (Pub. L. 114-328))” and adding “(37 U.S.C. 418(b)(4))” in its place; and

b. In paragraph (o) by removing “chapter 148 of title 10, United States Code (including 10 U.S.C. 2533a)” and adding “subchapter II of chapter 385 (including 10 U.S.C. 4862)” in its place.

225.7003-2 [Amended]

69. Amend section 225.7003-2 in paragraph (a) introductory text by removing “10 U.S.C. 2533b” and adding “10 U.S.C. 4863” in its place.

225.7003-3 [Amended]

70. Amend section 225.7003-3 in paragraph (b)(5) introductory text by removing “10 U.S.C. 2533b(m)(4)” and adding “10 U.S.C. 4863(m)(4)” in its place.

225.7004-1 [Amended]

71. Amend section 225.7004-1 by removing “10 U.S.C. 2534” and adding “10 U.S.C. 4864” in its place.

225.7006-1 [Amended]

72. Amend section 225.7006-1 by removing “10 U.S.C. 2534” and adding “10 U.S.C. 4864” in its place.

225.7007-1 [Amended]

73. Amend section 225.7007-1 in paragraph (b) by removing “10 U.S.C. 2534” wherever it appears and “subsection” and adding “10 U.S.C. 4864” and “section” in their places, respectively.

225.7008 [Amended]

74. Amend section 225.7008—

a. In the section heading by removing “10 U.S.C. 2534” and adding “10 U.S.C. 4864” in its place; and

b. In the introductory text by removing “10 U.S.C. 2534(a)” and adding “10 U.S.C. 4864(a)” in its place.

225.7010-1 [Amended]

75. Amend section 225.7010-1 in the introductory text by removing “10 U.S.C. 2534” and adding “10 U.S.C. 4864” in its place.

225.7010-4 [Amended]

76. Amend section 225.7010-4 in paragraph (a) by removing “10 U.S.C. 2534(h)” and adding “10 U.S.C. 4864(h)” in its place.

225.7013 [Amended]

77. Amend section 225.7013 in the introductory text by removing “10 U.S.C. 7309 and 7310” and adding “10 U.S.C. 8679 and 8680” in its place.

225.7018-2 [Amended]

78. Amend section 225.7018-2 in paragraph (a) by removing “10 U.S.C. 2533c” and adding “10 U.S.C. 4872” in its place.

225.7201 [Amended]

79. Amend section 225.7201 in the introductory text by removing “10 U.S.C. 2410g” and adding “10 U.S.C. 4603” in its place.

225.7601 [Amended]

80. Amend section 225.7601 by removing “10 U.S.C. 2410i” and adding “10 U.S.C. 4659” in its place.

225.7702-1 [Amended]

81. Amend section 225.7702-1 in paragraph (a)(1) by removing “10 U.S.C. 2304” and adding “10 U.S.C. 3201” in its place.

PART 226—OTHER SOCIOECONOMIC PROGRAMS

226.7200 [Amended]

82. Amend section 226.7200 by removing “10 U.S.C. 2302 note” and adding “10 U.S.C. 3901 note prec.” in its place.

226.7202 [Amended]

83. Amend section 226.7202 in paragraph (a)(2) by removing “10 U.S.C. 2302 note” and adding “10 U.S.C. 3901 note prec.” in its place.

PART 227—PATENTS, DATA, AND COPYRIGHTS

227.7002 [Amended]

84. Amend section 227.7002 by removing “10 U.S.C. 2386” and adding “10 U.S.C. 3793” in its place.

85. Amend section 227.7100 by revising paragraphs (a)(1) through (5) to read as follows:

227.7100 Scope of subpart.

* * * * *

(a) * * *

(1) 10 U.S.C. 3013.

(2) 10 U.S.C. 3208(d).

(3) 10 U.S.C. 3771-3775.

(4) 10 U.S.C. 3781-3786.

(5) 10 U.S.C. 3761.

* * * * *

227.7103-1 [Amended]

86. Amend section 227.7103-1 in paragraph (e) introductory text by removing “10 U.S.C. 2305” and adding “10 U.S.C. 3208” in its place.

227.7103-3 [Amended]

87. Amend section 227.7103-3—

a. In the section heading by removing “reproduction” and adding “reproduction,” in its place; and

b. In paragraph (a) by removing “10 U.S.C. 2320” and adding “10 U.S.C. 3772(a)” in its place.

227.7103-13 [Amended]

88. Amend section 227.7103-13—

a. In paragraphs (a) and (b) by removing “10 U.S.C. 2321” and adding “10 U.S.C. 3782” in their places; and

b. In paragraph (c)(2) by removing “10 U.S.C. 2320(b)(1) and 2321(f)” and adding “10 U.S.C. 3772(a)(1) and 3784” in its place.

227.7103-14 [Amended]

89. Amend section 227.7103-14 in paragraph (a) introductory text by removing “10 U.S.C. 2320” and adding “10 U.S.C. 3772” in its place.

227.7103-15 [Amended]

90. Amend section 227.7103-15—

a. In paragraph (a) by removing “10 U.S.C. 2320” and adding “10 U.S.C. 3771” in its place; and

b. In paragraph (b) by removing “10 U.S.C. 2321” and adding “10 U.S.C. 3782” in its place.

91. Amend section 227.7200 by revising paragraphs (a)(1) through (5) to read as follows:

227.7200 Scope of subpart.

* * * * *

(a) * * *

(1) 10 U.S.C. 3013.

(2) 10 U.S.C. 3208(d).

(3) 10 U.S.C. 3771-3775.

(4) 10 U.S.C. 3781-3786.

(5) 10 U.S.C. 3761.

* * * * *

227.7203-6 [Amended]

92. Amend section 227.7203-6 in paragraph (f) by removing “10 U.S.C. 2321” and adding “10 U.S.C. 3781-3786” in its place.

227.7203-13 [Amended]

93. Amend section 227.7203-13 in paragraph (d)(2) by removing “10 U.S.C. 2321” and adding “10 U.S.C. 3781-3786” in its place.

PART 231—CONTRACT COST PRINCIPLES AND PROCEDURES

231.205-18 [Amended]

94. Amend section 231.205-18 in paragraph (c)(iii)(B)(5) by removing “10 U.S.C. 2522” and adding “10 U.S.C. 4845” in its place.

231.205-22 [Amended]

95. Amend section 231.205-22 in paragraph (a) by removing “10 U.S.C. 2249” and adding “10 U.S.C. 4652” in its place.

231.205-70 [Amended]

96. Amend section 231.205-70—

a. In paragraph (a)(2) by removing “10 U.S.C. 2325” and adding “10 U.S.C. 3761” in its place; and

b. In paragraph (b) introductory text by removing “subsection” and adding “section” in its place.

231.303 [Amended]

97. Amend section 231.303 in paragraph (3) by removing “10 U.S.C. 2249” and adding “10 U.S.C. 4652” in its place.

231.603 [Amended]

98. Amend section 231.603 by removing “10 U.S.C. 2249” and adding “10 U.S.C. 4652” in its place.

231.703 [Amended]

99. Amend section 231.703 by removing “10 U.S.C. 2249” and adding “10 U.S.C. 4652” in its place.

PART 232—CONTRACT FINANCING

232.703-3 [Amended]

100. Amend section 232.703-3 in paragraph (b) by removing “10 U.S.C. 2410a” and adding “10 U.S.C. 3133” in its place.

232.903 [Amended]

101. Amend section 232.903 by removing “section 852 of the National Defense Authorization Act for Fiscal Year 2019 (Pub. L. 115-232)” and adding “10 U.S.C. 3801(b)” in its place.

232.1001 [Amended]

102. Amend section 232.1001 in paragraph (a) by removing “10 U.S.C. 2307(b)(2)” and adding “10 U.S.C. 3802(a)(2)” in its place.

232.1003-70 [Amended]

103. Amend section 232.1003-70 by removing “10 U.S.C. 2307(b)(4)(A)” and “10 U.S.C. 2307(b)(4)(B)” and adding “10 U.S.C. 3802(c)(1)” and “10 U.S.C. 3802(c)(2)” in their places, respectively.

232.7000 [Amended]

104. Amend section 232.7000 by removing “10 U.S.C. 2227” and adding “10 U.S.C. 4601” in its place.

PART 233—PROTESTS, DISPUTES, AND APPEALS

233.104 [Amended]

105. Amend section 233.104 in paragraph (c)(1)(B) by removing “10 U.S.C. 2304c(e)” and adding “10 U.S.C. 3406(f)” in its place.

233.204-70 [Amended]

106. Amend section 233.204-70 by removing “10 U.S.C. 2410(b)” and “relied under Pub. L.” and adding “10 U.S.C. 3862” and “relief under Public Law” in their places, respectively.

PART 234—MAJOR SYSTEM ACQUISITION

234.004 [Amended]

107. Amend section 234.004—

a. In paragraph (2)(i)(C)(2) by removing “10 U.S.C. 2366a” and adding “10 U.S.C. 4251” in its place; and

b. In paragraph (3)(ii) by removing “10 U.S.C. 2443” and adding “10 U.S.C. 4328” in its place.

234.005-1 [Amended]

108. Amend section 234.005-1 in paragraph (3) by removing “10 U.S.C. 2302e” and adding “10 U.S.C. 4004” in its place.

234.7000 [Amended]

109. Amend section 234.7000 in paragraph (a) by removing “10 U.S.C. 2379” and adding “10 U.S.C. 3455” in its place.

234.7002 [Amended]

110. Amend section 234.7002 in paragraph (d) introductory text by removing “10 U.S.C. 2377” and adding “10 U.S.C. 3453” in its place.

234.7100 [Amended]

111. Amend section 234.7100 in paragraph (a) by removing “10 U.S.C. 2430” and adding “10 U.S.C. 4201” in its place.

PART 235—RESEARCH AND DEVELOPMENT CONTRACTING

235.006 [Amended]

112. Amend section 235.006 in paragraph (b)(i) introductory text by removing “10 U.S.C. 2430” and adding “10 U.S.C. 4201” in its place.

235.006-70 [Amended]

113. Amend section 235.006-70 in the introductory text by removing “10 U.S.C. 2521(d)” and adding “10 U.S.C. 4841(d) and 4872” in its place.

235.070-1 [Amended]

114. Amend section 235.070-1 in paragraph (a) introductory text by removing “10 U.S.C. 2354” and adding “10 U.S.C. 3861” in its place.

235.070-2 [Amended]

115. Amend section 235.070-2 by removing “10 U.S.C. 2354” wherever it appears and adding “10 U.S.C. 3861” in their places.

235.070-3 [Amended]

116. Amend section 235.070-3 in paragraphs (a) and (b) by removing “10 U.S.C. 2354” and adding “10 U.S.C. 3861” in their places.

PART 236—CONSTRUCTION AND ARCHITECT-ENGINEER CONTRACTS

236.303-1 [Amended]

117. Amend section 236.303-1 in paragraph (a)(4)(i)(B) by removing “10 U.S.C. 2305a(d)” and adding “10 U.S.C. 3241(d)” in its place.

PART 237—SERVICE CONTRACTING

237.106 [Amended]

118. Amend section 237.106 in paragraph (2) by removing “10 U.S.C. 2410a” and adding “10 U.S.C. 3133” in its place.

237.170-1 [Amended]

119. Amend section 237.170-1 in paragraph (a) by removing “10 U.S.C. 2330” and adding “10 U.S.C. 4501” in its place.

237.7300 [Amended]

120. Amend section 237.7300 by removing “10 U.S.C. 2360” and adding “10 U.S.C. 4143” in its place.

237.7302 [Amended]

121. Amend section 237.7302 by removing “10 U.S.C. 2304(a)(1) and 10 U.S.C. 2360” and adding “10 U.S.C. 3204(a) and 10 U.S.C. 4143” in its place.

PART 239—ACQUISITION OF INFORMATION TECHNOLOGY

239.7300 [Amended]

122. Amend section 239.7300 by removing “10 U.S.C. 2339a” and adding “10 U.S.C. 3252” in its place.

239.7301 [Amended]

123. Amend section 239.7301 in the definitions of “Covered item of supply”, “Covered system” introductory text, and “Supply chain risk” by removing “10 U.S.C. 2339a” and adding “10 U.S.C. 3252” in their places.

239.7302 [Amended]

124. Amend section 239.7302—

a. In the introductory text by removing “10 U.S.C. 2339a” and adding “10 U.S.C. 3252” in its place;

b. In paragraph (a) by removing “10 U.S.C. 2305(a)(1)(C)(ii)” and “10 U.S.C. 2305(a)(2)(A)” and adding “10 U.S.C. 3206(a)(3)(B)” and “10 U.S.C. 3206(b)(1)” in their places, respectively; and

c. In paragraph (b) by removing “10 U.S.C. 2304c(d)(3)” and adding “10 U.S.C. 3406(d)(3)” in its place.

239.7304 [Amended]

125. Amend section 239.7304 in paragraph (c)(2)(i) introductory text by removing “10 U.S.C. 2304(f)(3)” and adding “10 U.S.C. 3204(e)(2)” in its place.

239.7305 [Amended]

126. Amend section 239.7305 in paragraph (a) by removing “10 U.S.C. 2319” and adding “10 U.S.C. 3243” in its place.

239.7406 [Amended]

127. Amend section 239.7406 in paragraph (a) by removing “10 U.S.C. 2306a” and adding “10 U.S.C. 3703” in its place.

PART 242—CONTRACT ADMINISTRATION AND AUDIT SERVICES

128. Revise section 242.771-1 to read as follows:

242.771-1 Scope.

This section implements 10 U.S.C. 3762, Independent research and development costs: allowable costs.

242.1502 [Amended]

129. Amend section 242.1502 in paragraph (g)(ii) by removing “10 U.S.C. 2306a(d)(2)(B)(ii)” and adding “10 U.S.C. 3705(b)(2)(B)” in its place.

242.7000 [Amended]

130. Amend section 242.7000 in paragraph (a), in the definition of “Covered contract”, by removing “10 U.S.C. 2302 note” and adding “10 U.S.C. 3841 note prec.” in its place.

242.7203 [Amended]

131. Amend section 242.7203 in paragraph (b) by removing “10 U.S.C. 2306a” and adding “10 U.S.C. 3702” in its place.

242.7302 [Amended]

132. Amend section 242.7302 in paragraph (a)(2) by removing “10 U.S.C. 2306a” and adding “10 U.S.C. 3702” in its place.

PART 243—CONTRACT MODIFICATIONS

242.204-71 [Amended]

133. Amend section 243.204-71 in paragraph (c) by removing “10 U.S.C. 2410(a)” wherever it appears and “Subpart” and adding “10 U.S.C. 3862(a)” and “subpart” in their places, respectively.

PART 244—SUBCONTRACTING POLICIES AND PROCEDURES

244.402 [Amended]

134. Amend section 244.402 in paragraph (S-70) by removing “10 U.S.C. 2380b” and adding “10 U.S.C. 3457(c)” in its place.

PART 250—EXTRAORDINARY CONTRACTUAL ACTIONS AND THE SAFETY ACT

250.101-2-70 [Amended]

135. Amend section 250.101-2-70 by removing “10 U.S.C. 2410(b)” and adding “10 U.S.C. 3862” in its place.

250.102-1 [Amended]

136. Amend section 250.102-1 in paragraph (d) by removing “Acquisition, Technology, and Logistics (USD (AT&L))”, “10 U.S.C. 133”, and “(AT&L)” and adding “Acquisition and Sustainment (USD (A&S))”, “10 U.S.C. 133(b)”, and “(A&S)” in their places, respectively.

250.104-3-70 [Amended]

137. Amend section 250.104-3-70 in the introductory text and paragraphs (a) and (b) by removing “10 U.S.C. 2354” and adding “10 U.S.C. 3861” in their places.

PART 252—SOLICITATION PROVISIONS AND CONTRACT CLAUSES

138. Amend section 252.203-7001—

a. By revising the section heading and the clause date;

b. In paragraphs (d) introductory text and (e) introductory text by removing “10 U.S.C. 2408” and adding “10 U.S.C. 4656” in their places; and

c. In paragraph (h) by removing “10 U.S.C. 2408(c)” and adding “10 U.S.C. 4656(c)” in its place.

The revisions read as follows:

252.203-7001 Prohibition on Persons Convicted of Fraud or Other Defense-Contract-Related Felonies.

* * * * *

Prohibition on Persons Convicted of Fraud or Other Defense-Contract-Related Felonies (DEC 2022)

* * * * *

252.203-7002 [Amended]

139. Amend section 252.203-7002—

a. By removing the clause date “(SEP 2013)” and adding “(DEC 2022)” in its place; and

b. In paragraph (a) by removing “10 U.S.C. 2409” and adding “10 U.S.C. 4701” in its place.

140. Amend section 252.206-7000—

a. By revising the section heading and the clause date; and

b. In the provision by removing “10 U.S.C. 2304(c)(3)” and adding “10 U.S.C. 3204(a)(3)” in its place.

The revisions read as follows:

252.206-7000 Domestic Source Restriction.

* * * * *

Domestic Source Restriction (DEC 2022)

* * * * *

141. Amend section 252.209-7002—

a. By revising the section heading and the clause date; and

b. In paragraph (b) by removing “10 U.S.C. 2536(a)” and adding “10 U.S.C. 4874” in its place.

The revisions read as follows:

252.209-7002 Disclosure of Ownership or Control by a Foreign Government.

* * * * *

Disclosure of Ownership or Control by a Foreign Government (DEC 2022)

* * * * *

252.209-7006 [Amended]

142. Amend section 252.209-7006—

a. By removing the clause date “(JAN 2008)” and adding “(DEC 2022)” in its place; and

b. In paragraph (f) by removing “10 U.S.C. 2410p, as added by section 807 of the National Defense Authorization Act for Fiscal Year 2007 (Pub. L. 109-364)” and adding “10 U.S.C. 4292” in its place.

252.209-7007 [Amended]

143. Amend section 252.209-7007—

a. By removing the clause date “(JUL 2009)” and adding “(DEC 2022)” in its place; and

b. In paragraph (e) by removing “10 U.S.C. 2410p, as added by section 807 of the National Defense Authorization Act for Fiscal Year 2007 (Pub. L. 109-364), and section 802 of the National Defense Authorization Act for Fiscal Year 2008 (Pub. L. 110-181)” and adding “10 U.S.C. 4292” in its place.

252.215-7008 [Amended]

144. Amend section 252.215-7008—

a. By removing the clause date “(JUL 2019)” and adding “(DEC 2022)” in its place; and

b. In paragraph (a)(1) by removing “reasonable” and “10 U.S.C. 2306a” and adding “reasonable (10 U.S.C. 3705)” and “10 U.S.C. 3702” in their places, respectively.

252.215-7013 [Amended]

145. Amend section 252.215-7013—

a. In the provision heading by:

i. Removing “SUPPLES” and adding “SUPPLIES” in its place; and

ii. Removing the provision date “(JAN 2018)” and adding “(DEC 2022)” in its place; and

b. In the provision by removing “10 U.S.C. 2380a” and “212.001” and adding “10 U.S.C. 3457” and “202.101” in their places, respectively.

252.215-7014 [Amended]

146. Amend section 252.215-7014—

a. By removing the clause date “(JUN 2018)” and adding “(DEC 2022)” in its place; and

b. In paragraph (b) by removing “10 U.S.C. 2306a(b)(1)” and adding “10 U.S.C. 3703(a)(4)” in its place.

252.215-7016 [Amended]

147. Amend section 252.215-7016—

a. By removing the clause date “(MAR 2022)” and adding “(DEC 2022)” in its place; and

b. In the paragraph (a), in definition of “Nontraditional defense contractor”, by removing “10 U.S.C. 2302(9)” and adding “10 U.S.C. 3014” in its place.

148. Amend section 252.216-7009—

a. By revising the section heading, the clause date, and the clause introductory text;

b. By redesignating paragraphs (1) and (2) as paragraphs (a) and (b);

c. In the newly redesignated paragraphs (a) and (b) by removing “10 U.S.C. 2409” wherever it appears and adding “10 U.S.C. 4701” in their places.

The revisions read as follows:

252.216-7009 Allowability of Legal Costs Incurred in Connection with a Whistleblower Proceeding.

* * * * *

Allowability of Legal Costs Incurred in Connection With a Whistleblower Proceeding (DEC 2022)

Pursuant to 10 U.S.C. 3750, notwithstanding FAR clause 52.216-7, Allowable Cost and Payment—

* * * * *

252.216-7010 [Amended]

149. Amend section 252.216-7010—

a. By removing the clause date “(MAR 2022)” and adding “(DEC 2022)” in its place; and

b. In paragraph (b)(1) by removing “10 U.S.C. 2304c(e)” and adding “10 U.S.C. 3406(e)” in its place.

150. Amend section 252.217-7026—

a. By revising the section heading and the provision date; and

b. In paragraph (a) by removing “10 U.S.C. 2384” and adding “10 U.S.C. 4753” in its place.

The revisions read as follows:

252.217-7026 Identification of Sources of Supply.

* * * * *

Identification of Sources of Supply (DEC 2022)

* * * * *

252.219-7000 [Amended]

151. Amend section 252.219-7000—

a. By removing the clause date “(SEP 2016)” and adding “(DEC 2022)” in its place; and

b. In paragraph (a) by removing “10 U.S.C. 2419” and adding “10 U.S.C. 4959” in its place.

252.219-7004 [Amended]

152. Amend section 252.219-7004—

a. By removing the clause date “(MAY 2019)” and adding “(DEC 2022)” in its place; and

b. In paragraph (d)(1)(ii)(B) by removing “10 U.S.C. 2430(a)” and adding “10 U.S.C. 4201” in its place.

252.225-7006 [Amended]

153. Amend section 252.225-7006—

a. By removing the clause date “(AUG 2015)” and adding “(DEC 2022)” in its place; and

b. In paragraph (b) removing “10 U.S.C. 2533a” and adding “10 U.S.C. 4862” in its place.

252.225-7009 [Amended]

154. Amend section 252.225-7009—

a. By removing the clause date “(DEC 2019)” and adding “(DEC 2022)” in its place; and

b. In paragraph (c)(5)(iii) by removing “10 U.S.C. 2533b(m)(4)” and adding “10 U.S.C. 4863(m)(4)” in its place.

252.225-7050 [Amended]

155. Amend section 252.225-7050—

a. By removing the clause date “(SEP 2021)” and adding “(DEC 2022)” in its place; and

b. In paragraph (b) introductory text by removing “10 U.S.C. 2327” and adding “10 U.S.C. 4871” in its place.

252.225-7051 [Amended]

156. Amend section 252.225-7051—

a. By removing the clause date “(SEP 2021)” and adding “(DEC 2022)” in its place; and

b. In paragraph (a), in the definition of “State sponsor of terrorism”, by removing “10 U.S.C. 2327” and adding “10 U.S.C. 4871” in its place.

252.225-7052 [Amended]

157. Amend section 252.225-7052—

a. By removing the clause date “(AUG 2022)” and adding “(DEC 2022)” in its place; and

b. In paragraph (b)(1) by removing “10 U.S.C. 2533c” and adding “10 U.S.C. 4872” in its place.

158. Amend section 252.227-7012—

a. By revising the section heading and the clause date;

b. In the clause by removing “10 U.S.C. 2386” and adding “10 U.S.C. 3793” in its place.

The revisions read as follows:

252.227-7012 Patent License and Release Contract.

* * * * *

Patent License and Release Contract (DEC 2022)

* * * * *

159. Amend 252.227-7013—

a. By revising the section heading and the clause date; and

b. In paragraph (k)(1) by removing “10 U.S.C. 2320, 10 U.S.C. 2321” and adding “10 U.S.C. 3771-3775, 10 U.S.C. 3781-3786” in its place.

The revisions read as follows:

252.227-7013 Rights in Technical Data-Noncommercial Items.

* * * * *

Rights in Technical Data—Noncommercial Items (DEC 2022)

* * * * *

160. Amend 252.227-7015—

a. By revising the section heading and the clause date; and

b. In paragraph (e)(1) by removing “10 U.S.C. 2320 and 10 U.S.C. 2321” and adding “10 U.S.C. 3771-3775 and 10 U.S.C. 3781-3786” in its place.

The revisions read as follows:

252.227-7015 Technical Data—Commercial Items.

* * * * *

Technical Data—Commercial Items (DEC 2022)

* * * * *

161. Amend section 252.227-7018—

a. By revising the section heading and the clause date; and

b. In paragraph (k)(1) by removing “the Contractor” and “10 U.S.C. 2320, 10 U.S.C. 2321” and adding “The Contractor” and “10 U.S.C. 3771-3775, 10 U.S.C. 3781-3786” in their places, respectively.

The revisions read as follows:

252.227-7018 Rights in Noncommercial Technical Data and Computer Software—Small Business Innovation Research (SBIR) Program.

* * * * *

Rights in Noncommercial Technical Data and Computer Software—Small Business Innovation Research (SBIR) Program (DEC 2022)

* * * * *

252.227-7037 [Amended]

162. Amend section 252.227-7037—

a. By removing the clause date “(APR 2022)” and adding “(DEC 2022)” in its place; and

b. In paragraph (i)(3) by removing “10 U.S.C. 2321” and adding “10 U.S.C. 3785(c)” in its place.

252.232-7012 [Amended]

163. Amend section 252.232-7012—

a. By removing the clause date “(APR 2020)” and adding “(DEC 2022)” in its place; and

b. In paragraph (b) by removing “10 U.S.C. 2307(b)(4)(A)” and adding “10 U.S.C. 3802(c)” in its place.

252.232-7013 [Amended]

164. Amend section 252.232-7013—

a. By removing the clause date “(APR 2020)” and adding “(DEC 2022)” in its place; and

b. In paragraph (b) by removing “10 U.S.C. 2307(b)(4)(A)” and adding “10 U.S.C. 3802(c)” in its place.

252.232-7015 [Amended]

165. Amend section 252.232-7015—

a. By removing the clause date “(APR 2020)” and adding “(DEC 2022)” in its place; and

b. In paragraph (a) by removing “10 U.S.C. 2307(b)(4)(A)” and adding “10 U.S.C. 3802(c)” in its place.

252.232-7017 [Amended]

166. Amend section 252.232-7017—

a. By removing the clause date “(APR 2020)” and adding “(DEC 2022)” in its place; and

b. In paragraph (b) by removing “section 852 of Public Law 115-232” and adding “10 U.S.C. 3801(b)(2)” in its place.

167. Amend section 252.235-7000—

a. By revising the section heading and clause heading and date; and

b. In paragraph (a) by removing “10 U.S.C. 2354” and adding “10 U.S.C. 3861” in its place.

The revisions read as follows:

252.235-7000 Indemnification Under 10 U.S.C. 3861—Fixed Price.

* * * * *

Indemnification Under 10 U.S.C. 3861—Fixed Price (DEC 2022)

* * * * *

168. Amend section 252.235-7001—

a. By revising the section heading and clause heading and date; and

b. In paragraph (a) by removing “10 U.S.C. 2354” and adding “10 U.S.C. 3861” in its place.

The revisions read as follows:

252.235-7001 Indemnification Under 10 U.S.C. 3861—Cost Reimbursement.

* * * * *

Indemnification Under 10 U.S.C. 3861—Cost Reimbursement (DEC 2022)

* * * * *

169. Amend section 252.239-7017—

a. By revising the section heading and clause date; and

b. In paragraphs (a), (b), and (c) by removing “10 U.S.C. 2339a” and adding “10 U.S.C. 3252” in their places.

The revisions read as follows:

252.239-7017 Notice of Supply Chain Risk.

* * * * *

Notice of Supply Chain Risk (DEC 2022)

* * * * *

170. Amend section 252.239-7018—

a. By revising the section heading and clause date;

b. In the paragraph (a), in the definition of “Supply chain risk”, and paragraphs (c) and (d) by removing “10 U.S.C. 2339a” and adding “10 U.S.C. 3252” in their places.

The revisions read as follows:

252.239-7018 Supply Chain Risk.

* * * * *

Supply Chain Risk (DEC 2022)

* * * * *

171. Amend section 252.243-7002—

a. By revising the section heading and the clause date; and

b. In paragraph (b) introductory text by removing “10 U.S.C. 2410(a)” and adding “10 U.S.C. 3862(a)” in its place.

The revisions read as follows:

252.243-7002 Requests for Equitable Adjustment.

* * * * *

Requests for Equitable Adjustment (DEC 2022)

* * * * *

252.244-7000 [Amended]

172. Amend section 252.244-7000—

a. By removing the clause date “(JAN 2021)” and adding “(DEC 2022)” in its place; and

b. In paragraph (c)(1) by removing “10 U.S.C. 2380b” and adding “10 U.S.C. 3457(c)” in its place.

252.249-7002 [Amended]

173. Amend section 252.249-7002—

a. By removing the clause date “(JUN 2020)” and adding “(DEC 2022)” in its place; and

b. In the paragraph (a), in the definition of “Major defense program”, removing “10 U.S.C. 2302(5)” and adding “10 U.S.C. 3041(a)” in its place.

174. Amend appendix I to chapter 2 as follows:

a. In section I-100, in paragraph (a) introductory text, by removing “10 U.S.C. 2302 note” and adding “10 U.S.C. 4901 note prec.” in its place;

b. By removing sections I-101.1, I-101.2, I-101.3, I-101.4, I-101.5, I-101.6, and I-101.7; and

c. In section I-106 by revising paragraph (d)(6)(ii).

The revision reads as follows:

Appendix I to Chapter 2—Policy and Procedures for the DoD Pilot Mentor-Protégé Program

* * * * *

I-106 Development of mentor-protégé agreements.

* * * * *

(d) * * *

(6) * * *

(ii) Entities providing procurement technical assistance pursuant to 10 U.S.C. Chapter 388 (Procurement Technical Assistance Cooperative Agreement Program).

* * * * *

[FR Doc. 2022-26689 Filed 12-15-22; 8:45 am]

BILLING CODE 5001-06-P